DEPARTMENT OF THE TREASURY

President's Commission on the United States Postal Service; Notice of Meeting

AGENCY: Departmental Offices, Department of the Treasury.

ACTION: Notice of meeting.

SUMMARY: Notice is given of a meeting of the President's Commission on the United States Postal Service.

DATES: The meeting will be held on Wednesday, July 23, beginning at 9 am.

ADDRESSES: The meeting will be held at the Ronald Reagan Building and International Trade Center, Polaris Suite (Concourse Level C), 1300 Pennsylvania Avenue, NW., Washington, DC 20004.

FOR FURTHER INFORMATION CONTACT: Roger Kodat, Designated Federal Official, 202-622-7073.

SUPPLEMENTARY INFORMATION: At the public meeting, the Commission will review and discuss a draft Commission report. Seating is limited.

Dated: July 2, 2003.
Roger Kodat,
Designated Federal Official.

[FR Doc. 03-17278 Filed 7-8-03; 8:45 am]

BILLING CODE 4811-16-P